DEPARTMENT OF TRANSPORTATION

Research and Special Programs Administration

[Docket No. RSPA-00-7666]

Pipeline Safety: Workshop on Gas Pipeline Integrity Management

AGENCY: Office of Pipeline Safety, Research and Special Programs Administration, DOT.

ACTION: Notice of workshop on gas pipeline integrity management.

SUMMARY: The Research and Special Programs Administration's (RSPA) Office of Pipeline Safety (OPS) and the National Association of Pipeline Safety Representatives (NAPSR) will cosponsor a workshop to discuss the Gas Pipeline Integrity Management final rule issued on December 15, 2003. The workshop will provide a detailed review and discussion of gas pipeline integrity management program requirements. Comments and issues discussed at the workshop will help RSPA/OPS and NAPSR implement oversight of operators' compliance with the gas pipeline integrity management rule. RSPA/OPS and NAPSR will hold another workshop in 2004 to provide further guidance on the oversight process to be used. OPS will also provide written guidance material to help operators prepare for compliance.

DATES: Tuesday, May 11, 2004, from 8 a.m. to 5:30 p.m. and Wednesday, May 12, 2004, from 8 a.m. to Noon.

ADDRESSES: The Westin Galleria, 5060 West Alabama, Houston, Texas, Phone: 713-960-8100; fax: 713-960-6549. For discounted rates, please refer to the USDOT Gas IMP Workshop block when making reservations. The deadline for reserving accommodations is April 19, 2004. For additional information on hotel accommodations, contact Janice Morgan at 202-366-2392 or janice.morgan@rspa.dot.gov.

Information on Services for Individuals with Disabilities

For information on facilities or services for individuals with disabilities or to request special assistance at the meeting, contact Juan Carlos Martinez (tel: 202-366-1933; E-mail: juan.martinez@rspa.dot.gov).

FOR FURTHER INFORMATION CONTACT: Zach Barrett, (tel: 405-954-5559; E-mail zach.barrett@tsi.jccbi.gov), or Jeff Wiese (tel: 202-366-2036; E-mail jeff.wiese@rspa.dot.gov regarding the subject matter of this notice. Additional information about gas integrity management can be found at http://primis.rspa.dot.gov/gasimp. You can read comments and other material in the docket on the Internet at: http://dms.dot.gov.

This meeting is open to all interested parties. However, operators of natural gas transmission pipelines are urged to attend either in person or to observe the workshop via the Internet. RSPA/OPS will webcast this meeting. To facilitate meeting planning and to obtain additional information regarding the webcast, advance registration for the meeting is strongly encouraged and can be accomplished online at the following Web site: http://primis/rspa.dot.gov/meetings. Internet links to the webcast will also be available through this Web site, or from the front page of the OPS Web site: http://ops.dot.gov. Those planning to “attend” this meeting through the webcast are strongly encouraged to review our “tips” for ensuring successful viewing in advance, as well as to register through our Web site. Registration both ensures that we can accommodate all attendees and provide additional information to them via the internet. The deadline for online meeting registration is May 5, 2004. Walk-in registration will be accommodated on a first-come, first-served basis.

Attendees will be provided the opportunity, at scheduled times during the workshop, to ask questions or make short statements on the topics under discussion. You may submit written comments by mail or deliver to the Dockets Facility, U.S. Department of Transportation (DOT), Room PL-401, 400 Seventh Street, SW., Washington, DC 20590-0001. It is open from 10 a.m. to 5 p.m., Monday through Friday, except Federal holidays. You also may submit written comments to the docket electronically. To do so, log onto the following Internet Web address: http://dms.dot.gov. Click on “Help & Information” for instructions on how to file a document electronically. All written comments should identify the docket and notice numbers which appear in the heading of this notice. Anyone who would like confirmation of mailed comments must include a self-addressed stamped postcard.

Anyone is able to search the electronic form of all comments received into any of our dockets by the name of the individual submitting the comment (or signing the comment, if submitted on behalf of an association, business, labor union, etc.). You may review DOT's complete Privacy Act Statement in the April 11, 2000, issue of the FR (Volume 65, Number 70; Pages 19477-78) or you may visit http://dms.dot.gov.

SUPPLEMENTARY INFORMATION: The Pipeline Safety Improvement Act of 2002 (codified at 49 U.S.C. 60101) required RSPA/OPS to prescribe standards by December 17, 2003, to direct a pipeline operator's conduct of a risk analysis and the adoption and implementation of an integrity management program. In compliance with the statute, on December 15, 2003, RSPA/OPS issued a final rule on Gas Transmission Pipeline Integrity Management (68 FR 69778). Similar to the final rule for integrity management of hazardous liquid pipelines, RSPA/OPS has four fundamental objectives for the Gas Integrity Management final rule:

(1) To increase the level of integrity assessments (i.e., in-line inspection, pressure testing or direct assessment) for pipelines that can affect high consequence areas; (2) to improve operator integrity management systems; (3) to improve government oversight of operator integrity management programs; and (4) to improve public assurance in pipeline safety.

The Gas Transmission Pipeline Integrity Management rule provides the foundation for RSPA/OPS to move beyond an assessment of the current metallurgical condition of the pipe to assess the overall management and systems used by an operator to implement effective and timely actions to maintain pipeline safety. Specific requirements of the final rule and extensive information on its implementation and enforcement can be found at: http://primis.rspa.dot.gov/gasimp.

Authority: 49 U.S.C. 60102, 60109, 60117.

Issued in Washington, DC on April 2, 2004.
Stacey L. Gerard,
Associate Administrator for Pipeline Safety.

[FR Doc. 04-7963 Filed 4-7-04; 8:45 am]

BILLING CODE 4910-60-P